DEPARTMENT OF THE INTERIOR

Fish and Wildlife Service

[FWS-R8-NWRS-2016-N192; FXRS12610800000-178-FF08R00000]

Lower Klamath, Clear Lake, Tule Lake, Upper Klamath, and Bear Valley National Wildlife Refuges, Klamath County, OR; Siskiyou and Modoc Counties, CA: Final Comprehensive Conservation Plan/Environmental Impact Statement

AGENCY: Fish and Wildlife Service, Interior.

ACTION: Notice of availability.

SUMMARY: We, the Fish and Wildlife Service (Service), announce the availability of a final comprehensive conservation plan (CCP) and environmental impact statement (EIS) for Lower Klamath, Clear Lake, Tule Lake, Upper Klamath, and Bear Valley National Wildlife Refuges (Refuges). The Refuges are part of the Klamath Basin Complex. The final CCP/EIS, prepared under the National Wildlife Refuge Improvement Act of 1997, and in accordance with the National Environmental Policy Act of 1969, describes how the Service proposes to manage the refuges for the next 15 years. Final compatibility determinations for uses proposed under the preferred alternative are also included as an appendix.

ADDRESSES: Document Availability: You may obtain copies of the documents in the following places:

• Internet: http://www.fws.gov/refuge/Tule_Lake/what_we_do/conservation.html.

• In Person:

○ Klamath Refuge Basin National Wildlife Refuge Complex Headquarters, 4009 Hill Road, Tulelake, CA 96134.

○ The following libraries:

Library | Address | Phone No.
Klamath County Main | 126 South Third Street, Klamath Falls, OR 97601 | (541) 882-8894
Keno Branch | 15555 Hwy 66, #1, Keno, OR 97627 | (541) 273-0750
Malin Branch | 2307 Front Street, Malin, OR 97632 | (541) 723-5210
Merrill Branch | 365 Front Street, Merrill, OR 97633 | (541) 798-5393
S. Suburban Branch | 3625 Summers Lane, Klamath Falls, OR 97603 | (541) 273-3679
Tulelake Branch | 451 Main Street, Tulelake, CA 96134 | (530) 667-2291
Butte Valley Branch | 800 West Third Street, Dorris, CA 96023 | (530) 397-4932
Redding | 1100 Parkview Ave., Redding, CA 96001 | (530) 245-7250
Multnomah Co. Central | 801 SW 10th Ave, Portland, OR 97205 | (530) 988-5123
Sacramento Public Central Branch | 828 I St., Sacramento, CA 95814 | (916) 264-2700
Medford | 205 S. Central Ave, Medford, OR 95701 | (541) 774-8689

FOR FURTHER INFORMATION CONTACT: Klamath Refuge Planner, (916) 414-6464 (phone).

SUPPLEMENTARY INFORMATION: We publish this notice to announce the availability of the final CCP/EIS for the Klamath Basin Refuges. The final CCP/EIS, which we prepared in accordance with the National Environmental Policy Act of 1969 (NEPA), describes and analyzes a range of management alternatives for the Klamath Basin Refuges.

EPA's Role in the EIS Process

The EPA is charged under section 309 of the CAA (42 U.S.C. 7401 et seq.) to review all Federal agencies' environmental impact statement (EISs) and to comment on the adequacy and acceptability of the environmental impacts of proposed actions in the EISs.

EPA also serves as the repository (EIS database) for EISs prepared by Federal agencies and provides notice of their availability in the Federal Register. The EIS database provides information about EISs prepared by Federal agencies, as well as EPA's comments concerning the EISs. All EISs are filed with EPA, which publishes a notice of availability on Fridays in the Federal Register.

The notice of availability is the start of the 30-day “wait period” for final EISs, during which agencies are generally required to wait 30 days before making a decision on a proposed action. For more information, see http://www.epa.gov/compliance/nepa/eisdata.html. You may search for EPA comments on EISs, along with the EISs themselves, at https://cdxnodengn.epa.gov/cds-enepa-public/action/eis/search.

Background

The CCP Process

The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs also evaluate the potential for providing wildlife-dependent recreational opportunities to the public, including opportunities for hunting, fishing, wildlife observation and photography, and environmental education and interpretation. We will review and update the CCP at least every 15 years in accordance with the Improvement Act.

Klamath Basin Refuges

The Klamath Basin Refuges consist of a variety of habitats, including freshwater marshes, open water, grassy meadows, coniferous forests, sagebrush and juniper grasslands, agricultural lands, and rocky cliffs and slopes. These habitats support diverse and abundant populations of resident and migratory wildlife, with 433 species having been observed on or near the Refuges. In addition, each year the Refuges serve as a migratory stopover for about three-quarters of the Pacific Flyway waterfowl, with peak fall concentrations of over 1 million birds.

NEPA Compliance

We are conducting environmental review in accordance with the requirements of NEPA, as amended (42 U.S.C. 4321 et seq.), its implementing regulations (40 CFR parts 1500-1508), other applicable regulations, and our procedures for compliance with those regulations. The final EIS discusses the direct, indirect, and cumulative impacts of the alternatives on biological resources, cultural resources, water quality, and other environmental resources. Measures to minimize adverse environmental effects are identified and discussed in the final CCP/EIS.

Alexandra Pitts,
Acting Regional Director, Pacific Southwest Region, Sacramento, California.

[FR Doc. 2016-29518 Filed 12-8-16; 8:45 am]

BILLING CODE 4333-15-P